DEPARTMENT OF THE INTERIOR

Bureau of Land Management

[LLNMF01000 L13110000.PP0000 14XL1109PF]

Notice of Public Meeting, Farmington District Resource Advisory Council Meeting, New Mexico

AGENCY: Bureau of Land Management, Interior.

ACTION: Notice of Public Meeting.

SUMMARY: In accordance with the Federal Land Policy and Management Act and the Federal Advisory Committee Act, the Bureau of Land Management's (BLM) Farmington District Resource Advisory Council (RAC) will meet as indicated below.

DATES: The RAC will meet on May 28, 2014, at the Taos Field Office, 226 Cruz Alta Road, Taos New Mexico from 9 a.m.-4 p.m. On May 29, 2014, there will be a field trip in Taos, New Mexico, from 8:30 a.m. to 4:30 p.m.; it is open to the public. The RAC will meet at 8:15 a.m. on May 29, 2014, at the Taos Field Office, 226 Cruz Alta Road. The BLM will not provide transportation for the field trip. The public may send written comments to the RAC at the BLM Farmington District Office, 6251 College Blvd., Suite A, Farmington, New Mexico 87402.

FOR FURTHER INFORMATION CONTACT: Christine Horton, BLM Farmington District Office, 6251 College Blvd., Suite A, Farmington, NM 87402, 505-564-7633. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Farmington District RAC advises the Secretary of the Interior, through the BLM, on a variety of planning and management issues associated with public land management in the BLM's Farmington District. Planned agenda items include: Opening remarks from the BLM Farmington District Manager; updates on ongoing planning efforts in the Farmington Field Office; an update on the Mancos/Gallup Shale Resource Management Plan Amendment; the RAC's recommendations on the wild horse and burro management plan; and Taos Field Office planning updates (including the Río Grande del Norte National Monument Management Plan).

On Wednesday, May 28, 2014, at 3 p.m., members of the public will have the opportunity to make comments to the RAC, during a half-hour public comment period. All RAC meetings are open to the public. Persons wishing to make comments during the public comment period should register in person with the BLM by 2 p.m. on May 28, 2014, at the meeting location. Depending on the number of commenters, the length of comments may be limited; this time may vary. The BLM appreciates all comments.

Michael H. Tupper,
Deputy State Director, Lands and Resources.

[FR Doc. 2014-08981 Filed 4-18-14; 8:45 am]

BILLING CODE 4310-FB-P